INTERNATIONAL TRADE COMMISSION

[Investigation No. 337-TA-1203]

Certain Rolled-Edge Rigid Plastic Food Trays; Institution of Investigation

AGENCY: U.S. International Trade Commission

ACTION: Correction of notice.

SUMMARY: Correction is made to notice 85 FR 37689, which was published on June 23, 2020; the notice published in the Federal Register incorrectly states: “The Office of Unfair Import Investigations will not participate as a party in this investigation.” As indicated in paragraph 3(c), the Office of Unfair Import Investigations has been named a party to the investigation.

By order of the Commission.
Issued: June 24, 2020.
Lisa Barton,
Secretary to the Commission.

[FR Doc. 2020-13996 Filed 6-29-20; 8:45 am]

BILLING CODE 7020-02-P